DEPARTMENT OF THE INTERIOR

Fish and Wildlife Service

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 700, Arlington, Virginia 22203, telephone (703) 358-2104 or fax (703) 358-2281.

FOR FURTHER INFORMATION CONTACT: Division of Management Authority, telephone (703) 358-2104.

SUPPLEMENTARY INFORMATION: On April 17, 2003, the U.S. Fish and Wildlife Service (Service) issued a permit (PRT-070221) to the Cincinnati Zoo, Cincinnati, Ohio, to import biological samples collected from bonobos (Pan paniscus) from Lola ya Bonobo sanctuary in the Democratic Republic of Congo, for the purpose of scientific research. The 30-day comment period required under the Endangered Species Act was waived pursuant to 16 U.S.C. 1539(c). The Service determined that an emergency affecting the health and life of the remaining bonobos sanctuary population existed, and that no reasonable alternative was available to the applicant for several reasons.

The Cincinnati Zoo requested a permit to import multiple blood samples, tracheal washings, gastric washings, urine, feces, hair and tissues samples from all animals housed at the Lola ya Bonobo sanctuary in the Democratic Republic of Congo for emergency and ongoing health/disease evaluation purposes. Samples will be utilized exclusively for diagnostic and scientific purposes. The specimens will be used to run diagnostics tests to determine the cause of the death of several animals that have died during an ongoing disease outbreak at the sanctuary within the past several weeks. The necessary diagnostic testing is not available in Africa. The results of health and disease testing from these bonobos may result in a secondary benefit by providing important clues to disease threats to the wild bonobo population.

The U.S. Fish and Wildlife Service has information collection approval from OMB through March 31, 2004, OMB Control Number 1018-0093. Federal Agencies may not conduct or sponsor and a person is not required to respond to a collection of information unless it displays a current valid OMB control number.

Dated: April 18, 2003.
Timothy J. Van Norman,
Chief, Branch of Permits—International Division of Management Authority.

[FR Doc. 03-11945 Filed 5-13-03; 8:45 am]

BILLING CODE 4310-55-P